DEPARTMENT OF TRANSPORTATION

Federal Highway Administration

Draft Environmental Impact Statement: Pulaski and Laurel Counties, KY

AGENCY: Federal Highway Administration (FHWA), USDOT.

ACTION: Notice of Availability (NOA).

SUMMARY: This announces the availability of the Draft Environmental Impact Statement (DEIS) for the proposed interstate facility in the south-central portion of Kentucky, between the Somerset Northern Bypass (I-66) and London, KY. In accordance with the National Environmental Policy Act of 1969 (NEPA), this DEIS examines the potential social, economic, and environmental impacts of the proposed build alternatives and includes the no-build alternative.

FOR FURTHER INFORMATION CONTACT: Ms. Mary Murray, Transportation Engineer/Project Manager, Federal Highway Administration, 330 West Broadway, Frankfort, Kentucky 40601, (502) 223-6745, by e-mail to Mary.Murrary@fhwa.dot.gov; or Mr. Joe Cox, Kentucky Transportation Cabinet (KYTC), District 8, PO Box 780, Somerset, KY 42501, by e-mail to Joe.Cox@kt.gov, by fax to (606) 677-4013.

SUPPLEMENTARY INFORMATION:

Background

The Transamerica Transportation Corridor (I-66) was defined in an Interstate 66 Feasibility Study. This study focused on the feasibility of various alternative transportation concepts. The report recognized that further analyses could find that some individual segments of the Transamerica Transportation Corridor would be more feasible than others and would be more desirable from a State or regional perspective. The Interstate 66 Feasibility Study was funded through the 1991 U.S. Department of Transportation Appropriation Act.

The Transamerica Transportation Corridor extended from the East Coast to the West Coast, and was generally located between I-70 and I-40. It included a “Southern Kentucky Corridor” centered on the cities of Pikeville, Jenkins, Hazard, London, Somerset, Columbia, Bowling Green, Hopkinsville, Benton and Paducah.

The Southern Kentucky Corridor, Economic Justification & Financial Feasibility Study, May 1997, followed the Interstate 66 Feasibility Study. This study included public participation through an advisory committee, public meetings, press releases, and newsletters sent to all parties who expressed an interest in the Southern Kentucky Corridor. The study identified the Somerset to London segment of the proposed I-66 Southern Kentucky Corridor as a high priority segment.

In June 2000, the I-66 Southern Kentucky Corridor Scoping Study (Pulaski and Laurel Counties, KY) was completed. The document developed an environmental footprint, gathered resources agency and public input, and identified areas of concern, as well as the potential benefits of an interstate facility within the Southern Kentucky Corridor.

The Federal Highway Administration issued a Notice of Intent to prepare an Environmental Impact Statement for the segment of I-66 between Somerset and London, Kentucky, on April 29, 2002 [FR Doc. 02-10410].

This DEIS addresses the direct, indirect, and cumulative impacts from the proposed project on the natural and human environments. Six Pulaski County and five Laurel County alternatives were analyzed in detail. The DEIS addresses impacts from each of the interstate build alternatives and, in addition, discusses the no-build alternative.

Public involvement was integral throughout the development of the DEIS. Nine Citizens Advisory Group meetings were held with members representing the concerns of Businesses, Economic Development, Communities, and the Environment, in order to solicit input and provide project development information prior to the publication of the DEIS. Additional public involvement included public meetings, project newsletters, press releases, and Section 106 consulting party meetings.

Resource agencies were consulted and invited to comment during resource agency meetings held on December 14, 1999, March 14, 2000, and July 10-11, 2003.

A public hearing Pulaski and Laurel counties will be held in August, 2006. Public notice will be given of the time and place of the hearings. All comments on the DEIS are to be sent to the Federal Highway Administration, KY Division Office, 330 W. Broadway Street, Frankfort, Kentucky 40601 (Attn: Jose Sepulveda).

Electronic Access

A copy of the DEIS has been sent to affected Federal, State and local agencies and made available for public review. In addition, the document will be available electronically on the following Web site: http://www.interstate66.com

An electronic copy of this NOA may be downloaded from the Office of the Federal Register's home page at http://www.archives.gov/federal-register and the Government Printing Office's Web page at http://www.gpoaccess.gov/fr/index.html.

(Catalogue of Federal Domestic Assistance Program Number 20.205, Highway Planning and Construction. The regulations implementing Executive Order 12372 regarding intergovernmental consultation on Federal programs and activities apply to this program) (23 U.S.C. 315; 49 CFR 1.48)
Dated: June 29, 2006.
Jose Sepulveda,
Kentucky Division Administrator.

[FR Doc. 06-6057 Filed 7-7-06; 8:45 am]

BILLING CODE 4910-22-M